DEPARTMENT OF ENERGY

Federal Energy Regulatory Commission

Combined Notice of Filings #1

June 5, 2009.

Take notice that the Commission received the following electric corporate filings:

Docket Numbers: EC09-84-000.

Applicants: NaturEner USA, LLC, NaturEner Montana Wind Energy 2, LLC, NaturEner Glacier Wind Energy 2, LLC.

Description: Application for Authorization of Disposition of Jurisdictional Facilities and Requests for Expedited Consideration and Confidential Treatment of NaturEner Montana Wind Energy 2, LLC, et al.

Filed Date: 06/04/2009.

Accession Number: 20090604-5112.

Comment Date: 5 p.m. Eastern Time on Thursday, June 25, 2009.

Take notice that the Commission received the following electric rate filings:

Docket Numbers: ER03-983-021.

Applicants: Fox Energy Company LLC.

Description: Fox Energy Company LLC submits triennial market power analysis.

Filed Date: 06/03/2009.

Accession Number: 20090604-0485.

Comment Date: 5 p.m. Eastern Time on Monday, August 3, 2009.

Docket Numbers: ER08-1442-001.

Applicants: Flat Ridge Wind Energy, LLC.

Description: Flat Ridge Wind Energy submits First Revised Sheet 1 et al. to its FERC Electric Tariff, Original Volume 1.

Filed Date: 06/03/2009.

Accession Number: 20090605-0078.

Comment Date: 5 p.m. Eastern Time on Monday, June 18, 2009.

Docket Numbers: ER09-870-001.

Applicants: Ameren Energy Marketing Company.

Description: Ameren Energy Marketing Co. submits Third Revised Sheet No. 2 et al. to Second Revised Rate Schedule FERC No. 1.

Filed Date: 06/02/2009.

Accession Number: 20090604-0476.

Comment Date: 5 p.m. Eastern Time on Tuesday, June 23, 2009.

Docket Numbers: ER09-1028-001.

Applicants: Covanta Hempstead Company.

Description: Covanta Hempstead Co. submits Substitute Original Sheet 2 to their FERC Electric Tariff, Original Volume 1.

Filed Date: 06/03/2009.

Accession Number: 20090604-0488.

Comment Date: 5 p.m. Eastern Time on Wednesday, June 24, 2009.

Docket Numbers: ER09-1199-000.

Applicants: Commonwealth Edison Company of Indiana, Inc.

Description: Commonwealth Edison Company of Indiana, Inc. submits ministerial revision to Attachment H-13 of the PJM Interconnection, LLC Open Access Transmission Tariff.

Filed Date: 05/26/2009.

Accession Number: 20090528-0061.

Comment Date: 5 p.m. Eastern Time on Tuesday, June 16, 2009.

Docket Numbers: ER09-1262-001.

Applicants: Northeast Utilities Service Company.

Description: Northeast Utilities Service Company submits for acceptance Revised Sheet 1 to FERC Rate Schedule 100 to be effective 8/1/09.

Filed Date: 06/02/2009.

Accession Number: 20090605-0066.

Comment Date: 5 p.m. Eastern Time on Tuesday, June 23, 2009.

Docket Numbers: ER09-1264-000.

Applicants: Midwest Independent Transmission System Operator, Inc.

Description: Midwest Independent Transmission System Operator, Inc. submits Second Revised Sheet 2261 et al. to FERC Electric Tariff, Fourth Revised Volume 1.

Filed Date: 06/02/2009.

Accession Number: 20090604-0475.

Comment Date: 5 p.m. Eastern Time on Tuesday, June 23, 2009.

Docket Numbers: ER09-1265-000.

Applicants: PacifiCorp.

Description: PacifiCorp submits Rate Schedule No 641 between PacifiCorp and Utah Associated Municipal Power Systems.

Filed Date: 06/02/2009.

Accession Number: 20090604-0474.

Comment Date: 5 p.m. Eastern Time on Tuesday, June 23, 2009.

Docket Numbers: ER09-1267-000.

Applicants: Niagara Mohawk Power Corporation.

Description: Niagara Mohawk Power Corporation submits Original Service Agreement 1445 et al. to its FERC Electric Tariff, Original Volume 6.

Filed Date: 06/03/2009.

Accession Number: 20090605-0065.

Comment Date: 5 p.m. Eastern Time on Wednesday, June 24, 2009.

Docket Numbers: ER09-1268-000.

Applicants: American Electric Power Service Corporation.

Description: Operating Companies of the American Electric Power System submits Original Service Agreement 671 et al. to its FERC Electric Tariff, Third Revised Volume 6.

Filed Date: 06/03/2009.

Accession Number: 20090605-0064.

Comment Date: 5 p.m. Eastern Time on Wednesday, June 24, 2009.

Docket Numbers: ER09-1269-000.

Applicants: Escondido Energy Center, LLC.

Description: Escondido Energy Center, LLC submits Original Sheet 1 to FERC Electric Tariff, Original Volume 1 to be effective 7/15/09.

Filed Date: 06/03/2009.

Accession Number: 20090605-0063.

Comment Date: 5 p.m. Eastern Time on Wednesday, June 24, 2009.

Docket Numbers: ER09-1270-000.

Applicants: Chula Vista Energy Center, LLC.

Description: Chula Vista Energy Center, LLC submits Original Sheet 1 et al. to its FERC Electric Tariff, Original Volume 1 to be effective 7/15/09.

Filed Date: 06/03/2009.

Accession Number: 20090605-0062.

Comment Date: 5 p.m. Eastern Time on Wednesday, June 24, 2009.

Docket Numbers: ER09-1271-000.

Applicants: PJM Interconnection, LLC.

Description: PJM Interconnection, LLC submits a revised rate schedule cover sheet to cancel PJM Rte Schedule FERC 3, which consists of a legacy Interconnection Agreement dated 9/30/65, periodically amended and supplemented etc.

Filed Date: 06/04/2009.

Accession Number: 20090605-0061.

Comment Date: 5 p.m. Eastern Time on Thursday, June 25, 2009.

Docket Numbers: ER09-1272-000.

Applicants: PJM Interconnection, LLC.

Description: PJM Interconnection, LLC submits an executed Interconnection Service Agreement entered into among PJM, et al.

Filed Date: 06/04/2009.

Accession Number: 20090605-0060.

Comment Date: 5 p.m. Eastern Time on Thursday, June 25, 2009.

Docket Numbers: ER09-1273-000.

Applicants: Westar Energy, Inc.

Description: Westar Energy, Inc submits a standard form of a Balancing Area Service Agreement as a new attachment to Westar's Open Access Transmission Tariff and Schedule 3A to its OATT.

Filed Date: 06/03/2009.

Accession Number: 20090605-0059.

Comment Date: 5 p.m. Eastern Time on Wednesday, June 24, 2009.

Docket Numbers: ER09-1274-000; ER09-1275-000; ER09-1276-000.

Applicants: Niagara Mohawk Power Corporation.

Description: New York Independent System Operator submits Original Service Agreement 1461 to FERC Electric Tariff, Original Volume 1.

Filed Date: 06/03/2009.

Accession Number: 20090605-0047.

Comment Date: 5 p.m. Eastern Time on Wednesday, June 24, 2009.

Take notice that the Commission received the following electric securities filings:

Docket Numbers: ES09-37-000.

Applicants: Northwestern Corporation.

Description: Application of NorthWestern Corporation for Authorization Under Section 204 of the Federal Power Act.

Filed Date: 05/29/2009.

Accession Number: 20090529-5130.

Comment Date: 5 p.m. Eastern Time on Friday, June 19, 2009.

Take notice that the Commission received the following open access transmission tariff filings:

Docket Numbers: OA08-58-003.

Applicants: ISO New England Inc.

Description: Northeast Utilities Service Company submits amendments to The ISO New England Inc Transmission, Markets and Services Tariff in compliance with Order 890.

Filed Date: 06/03/2009.

Accession Number: 20090604-0486.

Comment Date: 5 p.m. Eastern Time on Wednesday, June 24, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-14466 Filed 6-18-09; 8:45 am]

BILLING CODE 6717-01-P